DEPARTMENT OF HOMELAND SECURITY

Coast Guard

33 CFR Part 117

[Docket No. USCG-2017-0373]

Drawbridge Operation Regulation; Isle of Wight (Sinepuxent) Bay, Ocean City, MD

AGENCY: Coast Guard, DHS.

ACTION: Notice of deviation from drawbridge regulation.

SUMMARY: The Coast Guard has issued a temporary deviation from the operating schedule that governs the U.S. 50 (Harry Kelly) Bridge across the Isle of Wight (Sinepuxent) Bay, mile 0.5, at Ocean City, MD. The deviation is necessary to accommodate the free movement of pedestrians and vehicles during the 2017 Ocean City Air Show. This deviation allows the bridge to remain in the closed-to-navigation position.

DATES: This deviation is effective from 4 p.m. on June 17, 2017, until 5 p.m. on June 18, 2017.

ADDRESSES: The docket for this deviation, [USCG-2017-0373], is available at http://www.regulations.gov. Type the docket number in the “SEARCH” box and click “SEARCH”. Click on Open Docket Folder on the line associated with this deviation.

FOR FURTHER INFORMATION CONTACT: If you have questions on this temporary deviation, call or email Mr. Mickey Sanders, Bridge Administration Branch Fifth District, Coast Guard; telephone (757) 398-6587, email Mickey.D.Sanders2@uscg.mil.

SUPPLEMENTARY INFORMATION: The event director, Ocean City, Maryland, Department of Emergency Services, with approval from the Maryland State Highway Administration, who owns and operates the U.S. 50 (Harry Kelly) Bridge, has requested a temporary deviation from the current operating regulations to accommodate the free movement of pedestrians and vehicles during the 2017 Ocean City Air Show. The bridge is a double bascule bridge and has a vertical clearance in the closed position of 13 feet above mean high water.

The current operating schedule is set out in 33 CFR 117.559. Under this temporary deviation, the bridge will be maintained in the closed-to-navigation position from 4 p.m. to 5 p.m. on June 17 and 18, 2017. The Isle of Wight (Sinepuxent) Bay is used by a variety of vessels including small commercial vessels and recreational vessels. The Coast Guard has carefully considered the nature and volume of vessel traffic on the waterway in publishing this temporary deviation.

Vessels able to pass through the bridge in the closed position may do so at anytime. The bridge will be able to open for emergencies and there is no immediate alternate route for vessels unable to pass through the bridge in the closed position. The Coast Guard will also inform the users of the waterways through our Local and Broadcast Notice to Mariners of the change in operating schedule for the bridge so that vessel operators can arrange their transits to minimize any impacts caused by this temporary deviation.

In accordance with 33 CFR 117.35(e), the drawbridge must return to its regular operating schedule immediately at the end of the effective period of this temporary deviation. This deviation from the operating regulations is authorized under 33 CFR 117.35.

Dated: May 12, 2017.
Hal R. Pitts,
Bridge Program Manager, Fifth Coast Guard District.

[FR Doc. 2017-09973 Filed 5-16-17; 8:45 am]

BILLING CODE 9110-04-P